COMMITTEE FOR THE IMPLEMENTATION OF TEXTILE AGREEMENTS

Notice Regarding Pending Requests for Textile and Apparel Safeguard Action on Imports from China

August 5, 2005.

AGENCY: The Committee for the Implementation of Textile Agreements (the Committee)

ACTION: Notice

SUMMARY: The Committee is notifying the public that there is no need for further action on certain pending requests for Textile and Apparel Safeguard Action based upon allegations of actual (i.e., existing) market disruption at this time regarding imports of men's and boys' cotton and man-made fiber shirts, not knit (Category 340/640), man-made fiber knit shirts and blouses (Category 638/639), and man-made fiber trousers (Category 647/648).

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

Background:

On October 13, 2004, the Committee received requests from the American Manufacturing Trade Action Coalition, the National Council of Textile Organizations, the National Textile Association, SEAMS and UNITE HERE requesting that the Committee impose textile safeguard actions on imports from China of men's and boys' cotton and man-made fiber shirts, not knit (Category 340/640), man-made fiber knit shirts and blouses (Category 638/639), and man-made fiber trousers, slacks and shorts (Category 647/648), based on a threat of market disruption.

The Committee determined these requests provided the information necessary for the Committee to consider these requests and solicited public comments for a period of 30 days. See Solicitation of Public Comment on Request for Textile and Apparel Safeguard Action on Imports from China, 69 FR 64913 (Category 340/640), 64911 (Category 638/639) & 64915 (Category 647/48) (Nov. 9, 2004).

On December 30, 2004, the United States Court of International Trade preliminarily enjoined the members of the Committee from considering or taking any further action on these requests and any other requests “that are based on the threat of market disruption”. U.S. Association of Importers of Textiles and Apparel v. United States, 350 F. Supp. 2d 1342 (CIT 2004). On April 27, 2005 the United States Court of Appeals for the Federal Circuit granted the U.S. government's motion for a stay of that injunction and ultimately reversed the preliminary injunction. U.S. Association of Importers of Textiles and Apparel v. United States, Ct. No. 05-1209, 2005 U.S. App. LEXIS 12751 (Fed. Cir. June 28, 2005). Thus, the Committee resumed consideration of these cases.

The public comment period for these three requests had closed prior to December 30, 2004. The Committee did not solicit additional comments for these requests when it published a notice in the Federal Register inviting public comments for other requests with comment periods interrupted by the litigation. See Rescheduling of Consideration of Request for Textile and Apparel Safeguard Action on Imports from China and Solicitations of Public Comments, 70 FR 24397 (May 9, 2005).

On April 6, 2005, the Committee received requests from the American Manufacturing Trade Action Coalition, the National Council of Textile Organizations, the National Textile Association, and UNITE HERE requesting that the Committee limit imports from China of men's and boys' cotton and man-made fiber shirts, not knit (Category 340/640), man-made fiber knit shirts and blouses (Category 638/639), and man-made fiber trousers, slacks and shorts (Category 647/648) due to the existence of market disruption (“market disruption cases”). The Committee determined these requests provided the information necessary for the Committee to consider the requests and solicited public comments for a period of 30 days. See Solicitation of Public Comment on Request for Textile and Apparel Safeguard Action on Imports from China, 70 FR 23100 (Category 340/640), 23130 (Category 638/639) & 23136 (Category 647/48) (May 4, 2005).

On May 18, 2005, the Committee announced its determination that imports of Chinese origin men's and boys' cotton and man-made fiber shirts, not knit, man-made fiber knit shirts and blouses, and man-made fiber trousers, slacks and shorts are, due to a threat of market disruption, threatening to impede the orderly development of trade in these products. See Announcement of Request for Bilateral Textile Consultations with the Government of the People's Republic of China and the Establishment of Import Limits for Certain Cotton and Man-Made Fiber Textiles and Textile Products in Categories 301, 340/640, 638/639, and 647/648, Produced or Manufactured in the People's Republic of China, 70 FR 30930 (May 31, 2005).

The Committee's Procedures (68 FR 27787, May 21, 2003) state that the Committee will make a determination within 60 calendar days of the close of the public comment period as to whether the United States will request consultations with China with a view to easing or avoiding market disruption. This 60-day period for the three market disruption cases expired on August 2, 2005. Based on the threat of market disruption, however, the Committee has already requested consultations with China with respect to the categories of products covered by these three cases. See Announcement of Request for Bilateral Textile Consultations with the Government of the People's Republic of China and the Establishment of Import Limits for Certain Cotton and Man-Made Fiber Textiles and Textile Products in Categories 301, 340/640, 638/639, and 647/648, Produced or Manufactured in the People's Republic of China, 70 FR 30930 (May 31, 2005). Thus, there is no need for any further action based on allegations of actual market disruption at this time as to these categories.

D. Michael Hutchinson,
Acting Chairman, Committee for the Implementation of Textile Agreements.

[FR Doc. E5-4328 Filed 8-9-05; 8:45 am]

BILLING CODE 3510-DS-S